DEPARTMENT OF THE TREASURY

Submission for OMB Review; Comment Request

April 13, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 24, 2000 to be assured of consideration.

Financial Management Service (FMS)

OMB Number: 1510-0056.

Form Number: SF 3881.

Type of Review: Extension.

Title: ACH Vendor/Miscellaneous Payment Enrollment Form.

Description: Payment data will be collected from vendors doing business with the Federal Government. Treasury/FMS will use the information to electronically transmit payments to vendors' financial institutions. The affected public includes (but is not limited to) businesses, State/local governments, corporations, educational institutions, and other organizations.

Respondents: Business of other for-profit, Not-for-profit institutions, State, Local or Tribal Government.

Estimated Number of Respondents: 80,000.

Estimated Burden Hours Per Respondent: 15 minutes.

Frequency of Response: On occasion.

Estimated Total Reporting Burden: 20,000 hours.

Clearance Officer: Juanita Holder, Financial Management Service 3700 East West Highway, Room 144, PGP II, Hyattsville, MD 20782.

OMB Reviewer: Alexander T. Hunt, (202) 395-7860, Office of Management and Budget, Room 10202, New Executive Office Building, Washington, DC 20503.

Lois K. Holland,
Departmental Reports Management Officer.

[FR Doc. 00-10067 Filed 4-21-00; 8:45 am]

BILLING CODE 4810-35-P